FEDERAL COMMUNICATIONS COMMISSION

Information Collection(s) Being Submitted for Review and Approval to the Office of Management and Budget (OMB)

AGENCY: Federal Communications Commission.

ACTION: Notice; request for comments.

SUMMARY: As part of its continuing effort to reduce paperwork burden and as required by the Paperwork Reduction Act (PRA) of 1995 (44 U.S.C. 3502-3520), the Federal Communications Commission invites the general public and other Federal agencies to take this opportunity to comment on the following information collection(s). Comments are requested concerning: whether the proposed collection of information is necessary for the proper performance of the functions of the Commission, including whether the information shall have practical utility; the accuracy of the Commission's burden estimates; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before October 1, 2012. If you anticipate that you will be submitting PRA comments, but find it difficult to do so within the period of time allowed by this notice, you should advise the FCC contact listed below as soon as possible.

ADDRESSES: Submit your PRA comments to Nicholas A. Fraser, Office of Management and Budget (OMB), via fax at 202-395-5167 or via Internet at Nicholas_A._Fraser@omb.eop.gov and to Judith B. Herman, Federal Communications Commission, via the Internet at Judith-b.herman@fcc.gov. To submit your PRA comments by email send them to: PRA@fcc.gov.

FOR FURTHER INFORMATION CONTACT: Judith B. Herman, Office of Managing Director, FCC, at 202-418-0214.

SUPPLEMENTARY INFORMATION:

OMB Control Number: 3060-00819.

Title: Lifeline and Link Up Reform and Modernization, Advancing Broadband Availability Through Digital literacy Training.

Form Numbers: FCC Forms 497, 550 and 555.

Type of Review: Revision of a currently approved collection.

Respondents: Individuals or households and business or other for-profit.

Number of Respondents: 16,100,940 respondents; 41,828,019 responses.

Estimated Time per Response: .5782166 hours.

Frequency of Response: On occasion, quarterly, biennially, one time, monthly and annual reporting requirements, third party disclosure requirements and recordkeeping requirements.

Obligation to Respond: Required to obtain or retain benefits. Statutory authority for this information collection is contained in 47 U.S.C. sections 1, 4(i), 201-205, 214, 254 and 403 of the Communications Act of 1934, as amended.

Total Annual Burden: 24,185,658 hours.

Total Annual Cost: N/A.

Privacy Impact Assessment: Yes.

Nature and Extent of Confidentiality: The Commission is not requesting that respondents submit confidential information to the Commission. If the Commission requests information that the respondents believe is confidential, respondents may request confidential treatment of such information under 47 CFR 0.459 of the Commission's rules. We note that the Commission's sponsor, the Universal Service Administration Company (USAC) must preserve the confidentiality of all data obtain from respondents and contributors to the universal service support program mechanism, must not use the data except for the purposes of administering the universal service support program and must not disclose data in company-specific form unless directed to do so by the Commission.

Needs and Uses: The Commission will submit this collection to the OMB for approval of a revision of this information collection.

Eligible Telecommunications Carriers (ETCs) are permitted to receive universal service support reimbursement for offering certain services to qualifying low-income customers. On February 6, 2012, the Commission released a Report and Order and Further Notice of Proposed Rulemaking, Lifeline and Link Up Reform and Modernization, Federal-State Joint Board on Universal Service, FCC 12-11, intended to take immediate action to address potential waste, fraud and abuse in the universal service low income program. For specific details of the proposed information collection requirements and other requirements adopted see 77 FR 29241.

Federal Communications Commission.
Marlene H. Dortch,
Secretary.

[FR Doc. 2012-21449 Filed 8-29-12; 8:45 am]

BILLING CODE 6712-01-P